DEPARTMENT OF DEFENSE

Department of the Air Force

[No. USAF-2006-0010]

Proposed Collection; Comment Request

AGENCY: Air Force Research Laboratory/Air Force Office of Scientific Research (AFRL/AFOSR), DoD.

ACTION: Notice.

In compliance with section 3506(c)(2)(A) of the Paperwork Reduction Act of 1995, the Department of the Air Force, Air Force Research Laboratory/Air Force Office of Scientific Research (AFRL/AFOSR) is announcing a proposed new public information collection and seeks public comment on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by September 29, 2006.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to Air Force Office of Scientific Research, ATTN: AFOSR/PID, 875 North Randolph Street, Suite 325, Room 3112, Arlington, VA 22203-1768, or e-mail SFFP@afosr.af.mil and NRCRRA@afosr.af.mil, or call AFOSR/PID at 703-696-7323.

Title and OMB Number: AFRL/AFOSR Summer Faculty Fellowship Program (SFFP) and USAF/NRC Resident Research Associateships Program; OMB Number 0701-TBD.

Needs and Uses: The Air Force Office of Scientific Research (AFOSR) manages the entire basic research investment for the US Air Force. As part of the Air Force Research Laboratory (AFRL), AFOSR's technical experts support and fund research programs within the AFRL and other Air Force research activities. Applications for fellowships and associateships at AFRL research sites and the research activities at the US Air Force Academy and the Air Force Institute of Technology (AFIT), and the associated award forms, provide information used to identify some of the Nation's most talented scientific personnel for award of fellowships and associateships at Air Force research activities. Summer fellowships provide research apportunities for 8-14 weeks at an Air Force research site. Research Associates generally spend 1 to 3 years at an Air Force research site.

SFFP and NRC/RRA provide postdoctoral and senior scientists and engineers of unusual promise and ability opportunities for conducting research on problems that are defense requirements. Application information will be used for evaluation and selection of scientists and engineers to be awarded fellowships and associateships.

Failure to respond renders the applicant ineligible for a fellowship.

Affected Public: Individuals and households.

Annual Burden Hours: 4,480.

Number of Respondents: 280.

Responses per Respondent: 1.

Average Burden per Response: 16 hours.

Frequency: Annually (SFFP) and quarterly (NRC/RRA).

SUPPLEMENTARY INFORMATION:

Summary of Information Collection

Respondents are postdoctoral, senior, and university scientists and engineers desiring to conduct stimulating research projects and activities at Air Force research sites. The on-line, electronic application process provides information necessary for evaluation and selection of researchers. Associated award forms provide required information for direct deposit of stipends and reporting to the Internal Revenue Service.

Dated: May 26, 2006.
Patricia L. Toppings,
Alternate OSD Federal Register Liaison Officer, Department of Defense.

[FR Doc. 06-6574 Filed 7-28-06; 8:45 am]

BILLING CODE 5001-06-M